DEPARTMENT OF COMMERCE

International Trade Administration

[C-570-911]

Circular Welded Carbon-Quality Steel Pipe From the People's Republic of China: Rescission of Countervailing Duty Administrative Review; 2018

AGENCY: Enforcement and Compliance, International Trade Administration, Department of Commerce.

SUMMARY: The Department of Commerce (Commerce) is rescinding the administrative review of the countervailing duty order on circular welded carbon-quality steel pipe (CWP) from the People's Republic of China (China) for the period January 1, 2018, through December 31, 2018, based on the timely withdrawal of the request for review.

DATES: Applicable October 30, 2019.

FOR FURTHER INFORMATION CONTACT: Darla Brown, AD/CVD Operations, Office II, Enforcement and Compliance, International Trade Administration, U.S. Department of Commerce, 1401 Constitution Avenue NW, Washington, DC 20230; telephone: (202) 482-1791.

SUPPLEMENTARY INFORMATION:

Background

On July 1, 2019, Commerce published in the Federal Register a notice of opportunity to request an administrative review of the countervailing duty order on CWP from China for the period January 1, 2018, through December 31, 2018.¹ In July 2019, Commerce received a timely request, in accordance with section 751(a) of the Tariff Act of 1930, as amended (the Act), to conduct an administrative review of this countervailing duty order from Independence Tube Corporation, a Nucor Company, and Southland Tube, Incorporated, a Nucor Company (collectively, the petitioner).² We received no other requests for review. Based upon the petitioner's request, on September 9, 2019, in accordance with section 751(a) of the Act, Commerce published in the Federal Register a notice of initiation listing 147 companies for which Commerce received a timely request for review.³

¹ See Antidumping or Countervailing Duty Order, Finding, or Suspended Investigation; Opportunity to Request Administrative Review, 84 FR 31295 (July 1, 2019).

² See Petitioner's Letter, “Circular Welded Carbon Quality Steel Pipe from The People's Republic of China: Request for Administrative Review,” dated July 31, 2019.

³ See Initiation of Antidumping and Countervailing Duty Administrative Reviews, 84 FR 47242 (September 9, 2019).

In October 2019, the petitioner timely withdrew its request for an administrative review for all 147 companies.⁴

⁴ See Petitioner's Letter, “Circular Welded Carbon Quality Steel Pipe from The People's Republic of China: Withdrawal of Request for Administrative Review,” dated October 17, 2019.

Rescission of Review

Pursuant to 19 CFR 351.213(d)(1), the Secretary will rescind an administrative review, in whole or in part, if a party who requested the review withdraws the request within 90 days of the date of publication of notice of initiation of the requested review. As noted above, the petitioner withdrew its request for review by the 90-day deadline, and we received no other requests for review. Accordingly, we are rescinding the administrative review of the countervailing duty order on CWP from China covering the period January 1, 2018, through December 31, 2018, in its entirety.

Assessment

Commerce will instruct U.S. Customs and Border Protection (CBP) to assess countervailing duties on all appropriate entries. Countervailing duties shall be assessed at rates equal to the cash deposit of estimated countervailing duties required at the time of entry, or withdrawal from warehouse, for consumption, in accordance with 19 CFR 351.212(c)(1)(i). Commerce intends to issue appropriate assessment instructions to CBP 15 days after publication of this notice in the Federal Register.

Administrative Protective Order

This notice serves as the only reminder to parties subject to administrative protective order (APO) of their responsibility concerning the disposition of proprietary information disclosed under APO in accordance with 19 CFR 351.305(a)(3), which continues to govern business proprietary information. Timely written notification of the return/destruction of APO materials or conversion to judicial protective order is hereby requested. Failure to comply with the regulations and terms of an APO is a violation which is a sanctionable violation.

Notification to Interested Parties

This notice is issued and published in accordance with section 751(a)(1) and 751(i)(1) of the Act.

Dated: October 24, 2019.
James Maeder,
Deputy Assistant Secretary for Antidumping and Countervailing Duty Operations.

[FR Doc. 2019-23683 Filed 10-29-19; 8:45 am]

BILLING CODE 3510-DS-P